DEPARTMENT OF COMMERCE

National Oceanic and Atmospheric Administration

U.S. Integrated Ocean Observing System (IOOS®) Advisory Committee Meeting

AGENCY: National Ocean Service, National Oceanic and Atmospheric Administration (NOAA), Department of Commerce.

ACTION: Notice of Open Meeting (via webinar and teleconference).

SUMMARY: Notice is hereby given of a virtual meeting of the U.S. Integrated Ocean Observing System (IOOS®) Advisory Committee (Committee).

Dates and Times: The public meeting will be held on Thursday, June 23, 2016, from 1:00 p.m. to 3:00 p.m. ET. These times and the agenda topics described below are subject to change. Refer to the Web page listed below for the most up-to-date meeting agenda.

FOR FURTHER INFORMATION CONTACT: Jessica Snowden, Designated Federal Official, U.S. IOOS Advisory Committee, U.S. IOOS Program, 1315 East-West Highway, 2nd Floor, Silver Spring, MD 20910, Silver Spring, MD 20910; Phone 240-533-9466; Fax 301-713-3281; Email jessica.snowden@noaa.gov or visit the U.S. IOOS Advisory Committee Web site at https://ioos.noaa.gov/community/u-s-ioos-advisory-committee/.

SUPPLEMENTARY INFORMATION: The Committee meeting will be held via webinar and teleconference. Members of the public who wish to participate in the meeting must register in advance by 5:00 p.m. ET on June 22, 2016. Please register by contacting Jessica Snowden, Designated Federal Official by email at jessica.snowden@noaa.gov or telephone at 240-533-9466. Webinar and teleconference information will be provided to registrants prior to the meeting. While the meeting will be open to the public, webinar and teleconference capacity may be limited.

The Committee was established by the NOAA Administrator as directed by Section 12304 of the Integrated Coastal and Ocean Observation System Act, part of the Omnibus Public Land Management Act of 2009 (Public Law 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 10 minute public comment period on June 23, 2016, from 2:50 p.m. to 3:00 p.m. (check agenda on Web site to confirm time.) The Committee expects that public statements presented at its meetings will not be repetitive of previously submitted verbal or written statements. In general, each individual or group making a verbal presentation will be limited to a total time of three (3) minutes. Written comments should be received by the Designated Federal Official by June 17, 2016 to provide sufficient time for Committee review. Written comments received after June 17, 2016, will be distributed to the Committee, but may not be reviewed prior to the meeting date.

Matters to be Considered: The meeting will focus on review of draft recommendations on how the U.S. IOOS Program Office could improve the Ocean Technology Transition (OTT) Program. The agenda is subject to change. The latest version will be posted at https://ioos.noaa.gov/community/u-s-ioos-advisory-committee/.

Dated: May 16, 2016.
Zdenka Willis,
Director, U.S. Integrated Ocean Observing System Office.

[FR Doc. 2016-12475 Filed 5-25-16; 8:45 am]

BILLING CODE P